DEPARTMENT OF HEALTH AND HUMAN SERVICES

National Institutes of Health

National Cancer Institute; Amended Notice of Meeting

Notice is hereby given of a change in the meeting of the National Cancer Institute Board of Scientific Advisors, June 24, 2002, 8:30 a.m. to June 25, 2002, 6 p.m., National Cancer Institute, 9000 Rockville Pike, Building 31, C Wing, 6th Floor, Conference Room 10, Bethesda, MD 20892 which was published in the Federal Register on June 6, 2002, 67 FR 39027.

This meeting is amended to change the closing time on 6/25/02 to 1 p.m. The meeting is open to the public.

Dated: June 12, 2002.
LaVerne Y. Stringfield,
Director, Office of Federal Advisory Committee Policy.

[FR Doc. 02-15769 Filed 6-20-02; 8:45 am]

BILLING CODE 4140-01-M